DEPARTMENT OF COMMERCE

National Oceanic and Atmospheric Administration

RIN 0648-XA601

Endangered Species; File No. 15552

AGENCY: National Marine Fisheries Service (NMFS), National Oceanic and Atmospheric Administration (NOAA), Commerce.

ACTION: Issuance of permit.

SUMMARY: Notice is hereby given that the National Marine Fisheries Service Southeast Fisheries Science Center (SEFSC) [Dr. Bonnie Ponwith, Responsible Party] has been issued a permit to take green (Chelonia mydas), hawksbill (Eretmochelys imbricata), loggerhead (Caretta caretta), Kemp's ridley (Lepidochelys kempii), olive ridley (Lepidochelys olivacea), leatherback (Dermochelys coriacea), and unidentified hardshell sea turtles for the purposes of scientific research.

ADDRESSES: The permit and related documents are available for review upon written request or by appointment in the following offices:

Permits, Conservation and Education Division, Office of Protected Resources, NMFS, 1315 East-West Highway, Room 13705, Silver Spring, MD 20910; phone (301) 427-8401; fax (301) 713-0376; and

Southeast Region, NMFS, 263 13th Ave. South, St. Petersburg, FL 33701; phone (727) 824-5312; fax (727) 824-5309.

FOR FURTHER INFORMATION CONTACT: Colette Cairns or Amy Hapeman, (301) 427-8401.

SUPPLEMENTARY INFORMATION: On January 26, 2011, notice was published in the Federal Register (76 FR 4636) that a request for a scientific research permit to take green, loggerhead, hawksbill, leatherback, Kemp's ridley, olive ridley, and unidentified hardshell sea turtles had been submitted by the above-named organization. The requested permit has been issued under the authority of the Endangered Species Act of 1973, as amended (ESA; 16 U.S.C. 1531 et seq.) and the regulations governing the taking, importing, and exporting of endangered and threatened species (50 CFR parts 222-226).

The five-year permit authorizes the SEFSC to monitor the take of green, loggerhead, hawksbill, leatherback, Kemp's ridley, olive ridley, and unidentified hardshell sea turtles by observed commercial fisheries and collect data to estimate bycatch and its effects on sea turtle sub-populations. SEFSC-certified observers are authorized to handle, photograph, measure, weigh, flipper and passive integrated transponder tag, tissue sample, carapace mark and salvage specimens taken during commercial fishing activities. The research will take place in the Atlantic Ocean, the Gulf of Mexico, the Caribbean Sea, and their tributaries. These efforts would aid in the development and refinement of management efforts to recover these species.

Issuance of this permit, as required by the ESA, was based on a finding that such permit (1) was applied for in good faith, (2) will not operate to the disadvantage of such endangered or threatened species, and (3) is consistent with the purposes and policies set forth in section 2 of the ESA.

Dated: July 26, 2011.
P. Michael Payne,
Chief, Permits, Conservation and Education Division, Office of Protected Resources, National Marine Fisheries Service.

[FR Doc. 2011-19399 Filed 7-29-11; 8:45 am]

BILLING CODE 3510-22-P